INTERNATIONAL TRADE COMMISSION

[Investigation No. 337-TA-1260]

Certain Toner Supply Containers and Components Thereof (II); Commission Determination Not To Review an Initial Determination Granting Complainants' Unopposed Motion To Amend the Complaint and Notice of Investigation

AGENCY: International Trade Commission.

ACTION: Notice.

SUMMARY: Notice is hereby given that the U.S. International Trade Commission has determined not to review an initial determination (“ID”) (Order No. 6) of the presiding administrative law judge (“ALJ”) granting complainants' unopposed motion to amend the complaint and notice of investigation in the above-captioned investigation to correct the identification of a respondent.

FOR FURTHER INFORMATION CONTACT: Richard P. Hadorn, Esq., Office of the General Counsel, U.S. International Trade Commission, 500 E Street SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On April 13, 2021, the Commission instituted this investigation based on a complaint filed by Canon Inc. of Tokyo, Japan; Canon U.S.A., Inc. of Melville, New York; and Canon Virginia, Inc. of Newport News, Virginia (collectively, “Canon”). 86 FR 19287-88 (Apr. 13, 2021). The complaint, as supplemented, alleges violations of section 337 of the Tariff Act of 1930, as amended (19 U.S.C. 1337), based on the importation into the United States, the sale for importation, and the sale within the United States after importation of certain toner supply containers and components thereof by reason of infringement of certain claims of thirteen patents: U.S. Patent Nos. 10,209,667; 10,289,060; 10,289,061; 10,295,957; 10,488,814; 10,496,032; 10,496,033; 10,514,654; 10,520,881; 10,520,882; 8,565,649 (“the '649 patent”); 9,354,551 (“the '551 patent”); and 9,753,402 (“the '402 patent”). Id. at 19287. The complaint further alleges that a domestic industry exists. Id. The Commission instituted two separate investigations and defined the scope of the present investigation as whether there is a violation of section 337 based on the allegations of infringement as to the asserted claims of the '649, '551, and '402 patents as to the accused products identified in the notice of investigation. Id. The notice of investigation named eleven respondents: Sichuan XingDian Technology Co., Ltd. of Sichuan, China; Sichuan Wiztoner Technology Co., Ltd. of Sichuan, China; Anhuiyatengshangmaoyouxiangongsi of Ganyuqu, China; ChengDuXiangChangNanShiYouSheBeiYouXianGongSi of SiChuanSheng, China; Digital Marketing Corporation d/b/a Digital Buyer Marketing Company of Los Angeles, California; Do It Wiser, LLC d/b/a Image Toner (“Do It Wiser”) of Wilmington, Delaware; Hefeierlandianzishangwuyouxiangongsi of Chengdushi, China; Shenzhenshi Keluodeng Kejiyouxiangognsi of Guangdong, China; MITOCOLOR INC. of Rowland Heights, California; Xianshi yanliangqu canqiubaihuodianshanghang of Shanxisheng, China; and Zhuhai Henyun Image Co., Ltd. of Zhuhai, China. Id. The Office of Unfair Import Investigations is also named as a party. Id. at 19287-88. The question of whether there is a violation of section 337 based on the allegations of infringement as to the asserted claims of the remaining patents is the subject of the severed investigation based on the same complaint, Inv. No. 337-TA-1259. See 86 FR 19284-86 (Apr. 13, 2021).

On April 27, 2021, Canon filed a motion to amend the complaint and notice of investigation to change the identification of respondent Do It Wiser from “Do It Wiser, LLC d/b/a Image Toner” to “Do It Wiser, Inc. d/b/a Image Toner” and to make related changes in paragraph 31 of the complaint. The motion states that (i) OUII does not oppose the motion and (ii) Do It Wiser's counsel in a parallel district court lawsuit informed Canon that Do It Wiser “will not be participating in this investigation and does not oppose this motion.” Mot. at 1. No responses to the motion were filed.

On May 17, 2021, the ALJ issued the subject ID granting the motion. The ID finds that, in accordance with Commission Rule 210.14(b) (19 CFR 210.14(b)), “Canon has shown good cause to amend the complaint and notice of investigation to correct the identification of the respondent identified in the original complaint as Do It Wiser, LLC d/b/a Image Toner.” ID at 2. No petitions for review of the subject ID were filed.

The Commission has determined not to review the subject ID. The complaint and notice of investigation are amended to change the identification of respondent Do It Wiser from “Do It Wiser, LLC d/b/a Image Toner” to “Do It Wiser, Inc. d/b/a Image Toner” and to make related changes in paragraph 31 of the complaint.

The Commission vote for this determination took place on May 27, 2021.

The authority for the Commission's determination is contained in section 337 of the Tariff Act of 1930, as amended (19 U.S.C. 1337), and in Part 210 of the Commission's Rules of Practice and Procedure (19 CFR part 210).

By order of the Commission.
Issued: May 28, 2021.
Lisa Barton,
Secretary to the Commission.

[FR Doc. 2021-11702 Filed 6-2-21; 8:45 am]

BILLING CODE 7020-02-P